DEPARTMENT OF VETERANS AFFAIRS

[OMB Control No. 2900-0029]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed from a private sector sales broker to submit an offer to VA on behalf of a prospective buyer of a VA-acquired property.

DATES: Written comments and recommendations on the proposed collection of information should be received on or before May 2, 2005.

ADDRESSES: Submit written comments on the collection of information to Nancy J. Kessinger, Veterans Benefits Administration (20M35), Department of Veterans Affairs, 810 Vermont Avenue, NW., Washington, DC 20420 or e-mail: irmnkess@vba.va.gov. Please refer to “OMB Control No. 2900-0029” in any correspondence.

FOR FURTHER INFORMATION CONTACT: Nancy J. Kessinger at (202) 273-7079 or FAX (202) 275-5947.

SUPPLEMENTARY INFORMATION: Under the PRA of 1995 (Public Law 104-13; 44 U.S.C. 3501-21), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Offer to Purchase and Contract of Sale, VA Form 26-6705.

b. Credit Statement of Prospective Purchaser, VA Form 26-6705b.

c. Addendum to VA Form 26-6705 Offer to Purchase and Contract of Sale, VA Form 26-6705d.

OMB Control Number: 2900-0029.

Type of Review: Extension of a currently approved collection.

Abstract:

a. VA Form 26-6705 is completed by private sector sales broker to submit an offer to purchase VA acquired property on behalf of a prospective buyer. VA Form 26-6705 becomes a contract of sale if VA accepts the offer to purchase. It serves as a receipt for the prospective buyer for his/her earnest money deposit, describes the terms of sale, and eliminates the need for separate transmittal of a purchase offer.

b. VA Form 26-6705b is used as a credit application to determine the prospective buyer creditworthiness in instances when the prospective buyer seeks VA vendee financing. In such sales, the offer to purchase will not be accepted until the buyer's income and credit history have been verified and a loan analysis has been completed.

c. VA Form 26-6705d is an addendum to VA Form 26-6705 for use in the state of Virginia. The forms requires that the buyer be informed of the State's law at or prior to closing the transaction.

Affected Public: Individuals or households.

Estimated Annual Burden:

a. VA Form 26-6705—20,000 hours.

b. VA Form 26-6705b—15,000 hours.

c. VA Form 26-6705d—250 hours.

Estimated Average Burden Per Respondent:

a. VA Form 26-6705—20 minutes.

b. VA Form 26-6705b—20 minutes.

c. VA Form 26-6705d—5 minutes.

Frequency of Response: On occasion.

Estimated Number of Total Respondents:

a. VA Form 26-6705—60,000.

b. VA Form 26-6705b—45,000.

c. VA Form 26-6705d—3,000.

Dated: February 17, 2005.
By direction of the Secretary.
Cindy Stewart,
Program Analyst, Information Management Service.

[FR Doc. 05-3972 Filed 3-1-05; 8:45 am]

BILLING CODE 8320-01-P